GENERAL SERVICES ADMINISTRATION

Federal Management Regulation; Publication of Electronic Copy

AGENCY: Office of Governmentwide Policy, General Services Administration (GSA).

ACTION: Notice.

SUMMARY: GSA announces the reissue of the Federal Management Regulation (FMR) in an improved electronic version. The FMR is available in HTML and PDF versions and will replace the paper copy of the FMR looseleaf.

FOR FURTHER INFORMATION CONTACT: Michael Hopkins, Office of Transportation and Personal Property, General Services Administration, Washington, DC 20405, (202) 208-4421, michael.hopkins@gsa.gov.

SUPPLEMENTARY INFORMATION: The Federal Management Regulation (FMR) is contained in Title 41, chapter 102, of the Code of Federal Regulations (41 CFR chapter 102). The FMR implements statutory requirements and Executive branch policies for managing personal and real property, transportation, and administrative programs such as mail management.

This reissue contains a revised format but does not include new policy changes. Electronic versions of the FMR will be located at www.gsa.gov (then search for “FMR & FMR Library”). Discontinuance of the hard copy FMR looseleaf edition will take place immediately.

Dated: September 1, 2004
G. Martin Wagner,
Associate Administrator.

[FR Doc. 04-20377 Filed 9-8-04; 8:45 am]

BILLING CODE 6820-14-S